DEPARTMENT OF HEALTH AND HUMAN SERVICES

National Institutes of Health

Center for Scientific Review; Amended Notice of Meeting

Notice is hereby given of a change in the meeting of the Center for Scientific Review Special Emphasis Panel, May 19, 2010, 12 p.m. to May 19, 2010, 5 p.m., Tata Communications, 2355 Dulles Corner Boulevard, 7th Floor, Herndon, VA 20171 which was published in the Federal Register on April 26, 2010, 75 FR 21641.

The meeting has been changed to a Hybrid meeting. The meeting date, time and location remain the same. The meeting is closed to the public.

Dated: April 29, 2010.
Jennifer Spaeth,
Director, Office of Federal Advisory Committee Policy.

[FR Doc. 2010-10871 Filed 5-6-10; 8:45 am]

BILLING CODE 4140-01-P